DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Evaluation of NOAA's Bay Watershed Education and Training (B-WET) Programs.

Form Number(s): None.

OMB Approval Number: 0648-0530.

Type of Request: Regular submission.

Burden Hours: 4,235.

Number of Respondents: 6,528.

Average Hours Per Response: One half hour for students; 20 minutes for teachers; 1 hour for program providers; 20 minutes for professional development teachers; 1 hour for professional development program providers; and 20 minutes for past professional development teachers.

Needs and Uses: NOAA seeks to ascertain whether B-WET-funded Meaningful Watershed Educational Experience (MWEE) programs are improving students' stewardship and academic achievement as well as teachers' confidence in implementing MWEEs with their students. NOAA, with additional funding from the Chesapeake Bay Trust and the Keith Campbell Foundation, has contracted with an external team of evaluators to conduct an initial, exploratory evaluation to collect baseline data on the MWEE and professional development (PD) programs..

Affected Public: Individuals or households; not-for-profit institutions; State, Local or Tribal Government.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 22, 2005.
Gwellnar Banks,
Management Analyst, Office of the Chief Information Officer.

[FR Doc. 05-23409 Filed 11-28-05; 8:45 am]

BILLING CODE 3510-12-U